ENVIRONMENTAL PROTECTION AGENCY

[FRL-8225-4]

Proposed Agreement for Recovery of Allocated Past Costs, and Covenant Not to Sue for the Richardson Flat Tailing Site, Park City, UT

AGENCY: Environmental Protection Agency.

ACTION: Notice of proposed settlement; request for public comment.

SUMMARY: In accordance with the requirements of section 122(i)(1) of the Comprehensive Environmental Response Compensation, and Liability Act of 1980, as amended (“CERCLA”), 42 U.S.C. 9622(i)(1), notice is hereby given of the proposed settlement under section 122(h) of CERCLA, 42 U.S.C. 9622(h), between the U.S. Environmental Protection Agency (“EPA”) and the following (collectively, “Settling Defendants”): United Park City Mines, Atlantic Richfield Company, Falconbridge Limited, and Noranda Mining Inc.

The proposed settlement would reimburse EPA for costs incurred in response to the release or threatened release of hazardous substances at the Richardson Flat Tailings Site located approximately 1.5 miles northeast of Park City, Utah (the “Site”). EPA alleges that each of the Settling Defendants is jointly and severally liable for all response costs incurred by EPA at or in connection with the Site, pursuant to Section 107(a) of CERCLA, 42 U.S.C. 9607(a).

The EPA's response costs total approximately $607,294.89 through November 30, 2001. The Settling Defendants have agreed to pay $460,000, with the allocation to each party described in a proposed Consent Decree and Partial Consent Decree. All subsequent costs incurred have been paid pursuant to Administrative Orders on Consent with United Park City Mines.

Under the proposed settlement, the Settling Defendants have agreed not to contest the authority of the United States to enter into the settlement or to implement or enforce its terms. In return, and upon payment of the amounts agreed upon, the Settling Defendants will receive a covenant from EPA not to sue them for additional past response costs at the Site.

DATES: For thirty (30) days following the date of publication of this Notice, the EPA will receive written comments relating to the past costs allocated settlement agreement for the Site. The EPA will consider all comments received and may modify or withdraw its consent to the agreement if comments received disclose facts or considerations that indicate that the agreement is inappropriate, improper, or inadequate.

ADDRESSES: The EPA's response to any comments, the proposed agreement and additional background information relating to the agreement is available for public inspection at the EPA Superfund Record Center, 999 18th Street, Suite 300, 5th Floor, in Denver, Colorado. Comments and requests for copies of the proposed Consent Decree and Partial Consent Decree should be addressed to Maureen O'Reilly, Enforcement Specialist, Environmental Protection Agency—Region 8, Mail Code 8ENF-RC, 999 18th Street, Suite 300, Denver, Colorado 80202-2466, and should reference the Richardson Flat Tailings Site, Park City, Utah.

FOR FURTHER INFORMATION CONTACT: Margaret J. (“Peggy”) Livingston, Enforcement Attorney, Legal Enforcement Program, Environmental Protection Agency—Region 8, Mail Code 8ENF-L, 999 18th Street, Suite 300, Denver, Colorado 80202-2466, (303) 312-6858.

Dated: September 19, 2006.
Carol Rushin,
Assistant Regional Administrator Office of Enforcement, Compliance and Environmental Justice, U.S. Environmental Protection Agency, Region VIII.

[FR Doc. E6-16061 Filed 9-28-06; 8:45 am]

BILLING CODE 6560-50-P